DEPARTMENT OF HOMELAND SECURITY

Office of the Secretary

6 CFR Part 37

[Docket No. DHS-2006-0030]

RIN 1601-AA37

Minimum Standards for Driver's Licenses and Identification Cards Acceptable by Federal Agencies for Official Purposes

AGENCY: Office of the Secretary, DHS.

ACTION: Notice of public meeting; request for comments.

SUMMARY: The Department of Homeland Security, Office of the Secretary, will hold a public meeting to receive comments on the Notice of Proposed Rulemaking, “Minimum Standards for Driver's Licenses and Identification Cards Acceptable by Federal Agencies for Official Purposes,” published in the Federal Register on March 9, 2007 (72 FR 10820). We encourage interested parties to attend the meeting and submit comments for discussion during the meeting. In addition, we will also seek comments via email for discussion during the meeting from any party who is unable to attend in person. The webcast of the public meeting will be viewable at http://www.realidtownhall.com.

DATES: Public Meeting: We will hold the meeting on May 1, 2007, from 10 a.m. to 2 p.m.

ADDRESSES: We will hold the meeting in Freeborn Hall on the campus of the University of California, Davis. The university is located in the City of Davis, approximately 11 miles west of downtown Sacramento. The street address for Freeborn Hall is 104 Freeborn Hall, One Shields Ave., Davis, CA 95616.

FOR FURTHER INFORMATION CONTACT: For information concerning this public meeting, please contact Mike Kangior, U.S. Department of Homeland Security, Washington, DC 20528, at 202-282-8939.

SUPPLEMENTARY INFORMATION:

How Are Comments Being Solicited for This Rulemaking?

In addition to the public meeting on May 1, 2007, the Department of Homeland Security is soliciting comments through the following methods:

• Federal Rulemaking Portal: http://www.regulations.gov. Follow the instructions for submitting comments.

• Fax: 866-466-5370.

• Mail: Paper, disk or CD-ROM submissions can be mailed to the Department of Homeland Security, Attn: NAC 1-12037, Washington, D.C. 20538.

Please include the DHS Docket Number, DHS-2006-0030 on any comments submitted to DHS. Individuals that provide comments at the public meeting may also submit comments through one of the above methods.

How Can I Get Additional Information, Including Copies of This Notice or Other Related Documents?

The Federal Rulemaking Portal at www.regulations.gov maintains the public docket for this proposed rule. The docket number for the rule is DHS-2006-0030. Comments submitted during the public meeting, and any other documents submitted to DHS at the public meeting, including any comments that were not discussed at the meeting, will become part of this docket and will be available for inspection electronically at http://www.regulations.gov.

Where Can I Get Information on Service for Individuals With Disabilities?

To obtain information on facilities or services for individuals with disabilities or to request that we provide special assistance at the public meeting, please contact Mike Kangior as soon as possible. You will find his address and phone number in the FOR FURTHER INFORMATION CONTACT section of this notice.

Why Is the Department of Homeland Security Holding This Public Meeting?

This meeting serves as an additional opportunity for members of the public to submit comments on the proposed rule to DHS for consideration as part of the final rulemaking development process.

What Issues Should I Discuss at the Meeting?

The public meeting on May 1, 2007 will provide a forum for members of the public to discuss various issues related to the proposed rule. Such issues may include consumer concerns, verification, privacy/security, funding/implementation and law enforcement. For convenience to public participants who wish to attend the meeting, DHS intends to discuss these issues under the proposed agenda below.

What Is the Agenda for the Public Meeting?

Agenda

The agenda for the meeting on May 1, 2007 is as follows:

• Session I—Introduction and Overview.

• Session II—Presentation and discussion of public comments.

Dated: April 17, 2007.
Richard C. Barth,
Assistant Secretary of Policy Development.

[FR Doc. E7-7655 Filed 4-20-07; 8:45 am]

BILLING CODE 4410-10-P